DEPARTMENT OF THE INTERIOR

National Park Service

[NPS-WASO-NAGPRA-20021; PPWOCRADN0-PCU00RP14.R50000]

Notice of Intent To Repatriate Cultural Items: Fowler Museum at the University of California Los Angeles, Los Angeles, CA, and California Department of Transportation, Sacramento, CA

AGENCY: National Park Service, Interior.

ACTION: Notice.

SUMMARY: The Fowler Museum at the University of California Los Angeles (UCLA) and California Department of Transportation, in consultation with the appropriate Indian tribes or Native Hawaiian organizations, have determined that the cultural items listed in this notice meet the definition of unassociated funerary objects. Lineal descendants or representatives of any Indian tribe or Native Hawaiian organization not identified in this notice that wish to claim these cultural items should submit a written request to the California Department of Transportation. If no additional claimants come forward, transfer of control of the cultural items to the lineal descendants, Indian tribes, or Native Hawaiian organizations stated in this notice may proceed.

DATES: Lineal descendants or representatives of any Indian tribe or Native Hawaiian organization not identified in this notice that wish to claim these cultural items should submit a written request with information in support of the claim to the California Department of Transportation at the address in this notice by February 26, 2016.

ADDRESSES: Tina Biorn, California Department of Transportation, P.O. Box 942874 MS 27, Sacramento, CA 94271-0001, telephone (916) 653-0013, email tina.biorn@dot.ca.gov.

SUPPLEMENTARY INFORMATION: Notice is here given in accordance with the Native American Graves Protection and Repatriation Act (NAGPRA), 25 U.S.C. 3005, of the intent to repatriate cultural items under the control of the California Department of Transportation that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In February 1997, 4,280 burial objects were removed from CA-LAN-2233 in Los Angeles County, CA. The California Department of Transportation initiated an emergency recovery effort of burials in the path of construction to improve State Route 126. An archeologist had previously found a burial on an adjacent private property and notified the California Department of Transportation (Caltrans) as construction began. During staff efforts to locate the burial, evidence of additional burials were found. Staff terminated the exploratory effort and came back with a crew consisting of trained osteologists from the Archaeological Research Center, California State University, Sacramento, and Caltrans staff, under the direction of Dr. Georgie Waugh, to recover the burials. In August 1997, six more burials were found during highway construction and additional recovery excavations were conducted by Dr. Phillip Walker and students of University of California (UC) Santa Barbara. Over the course of the project, a total of 45 burials were located and transported to UC Santa Barbara for analysis. All human remains and non-artifactual and artifactual grave associated items identified were reburied as directed by the Most Likely Descendant designated by the California Native American Heritage Commission. Recent consultations resulted in the identification of additional funerary objects because of their proximity to the burials. The unassociated funerary objects are 1 stone core, 1,415 pieces of stone debitage, 3 pieces of modified bone, 2,828 pieces of unmodified faunal bone, 1 soil sample, 6 bags of charcoal samples, and 24 fragments and 2 bags of seed/nut pieces. Two components were identified: An earlier Millingstone adaptation that occurred at least prior to 2000 years ago, and perhaps as early as 3000-4000 years ago, and a later component securely dated to at least 2000 to 1630 years ago. The burials are associated with this later component.

In 1966 and 1967, 502 burial items were removed from Xucu (CA-SBA-1) in Santa Barbara County, CA. Excavations were undertaken by a UCLA field course directed by Patrick Finnerty for the State Division of Highways prior to construction of Highway 101. This work continued in 1967, in addition to excavations led by Gary Stickel within an adjacent cemetery. Both sets of collections were curated upon completion of analysis as provided in the permits. Not all of the 1966 burials were curated at UCLA, and their current location is unknown. Radiocarbon dates have occupation from 5500 B.C. through Spanish contact periods. In 1966, formal burials and fragmentary human remains were discovered and removed for curation. While the catalog lists some associated funerary objects for “Burial 1, 2, 3, and 5,” none of the formal burials have been located, and therefore all burial objects are recorded as unassociated funerary objects. The total number of objects from these features is 328, which includes 280 fragments and 3 bags of unmodified animal bones, 1 worked bone, 1 atlatl, 1 core, 10 flakes, 26 fragments and 1 bag of unmodified shell, 1 stone fragment, 1 hammerstone, 1 mortar fragment, 1 net weight, and 1 spire-lopped shell bead. The 1967 excavations derive from a cemetery context. In addition to the burials there were also many features found directly above or close to the burials, but not in direct association. The total number of objects from these features is 174, which include 67 unmodified animal bone, 12 unmodified shell fragments, 1 discoidal, 14 chipped stone tools and flakes, 72 groundstone tools and fragments, and 8 mortar fragments.

From 1961-1963, two burial objects were removed from Rincon Point (CA-SBA-119) in Santa Barbara County, CA. Excavations in 1961 and 1962 were led by Patrick Finnerty, while still in high school. Most of the human remains and artifacts have not been located, however, at least some of three burials and objects have been found and curated at the Fowler Museum at UCLA. The site dates from 1735-1320 B.C. A few of the burial objects associated with the 1961 field season have been curated at UCLA. Since the associated human remains have not been located, these objects are included here as unassociated funerary objects. They are one abrading stone and one megathura shell ornament.

The sites detailed in this notice have been identified through tribal consultation to be within the traditional territory of the Chumash people. These locations are consistent with ethnographic and historic documentation of the Chumash people.

The Chumash territory, anthropologically defined first on the basis of linguistic similarities, and subsequently on broadly shared material and cultural traits, reaches from San Luis Obispo to Malibu on the coast, inland to the western edge of the San Joaquin Valley, to the edge of the San Fernando Valley, and includes the four Northern Channel Islands. At the southern and southeastern boundaries of the territory there is evidence of the physical co-existence of Chumash, Tataviam, and Gabrielino/Tongva languages and beliefs systems. At the northern boundary of the territory there is evidence of the physical co-existence of Chumash and Salinan groups. The sites in this notice are located in the northwestern Los Angeles County and Santa Barbara County and fall within the geographical area identified as Chumash. Some tribal consultants state that these areas were the responsibility of regional leaders, who were themselves organized into a pan-regional association of both political power and ceremonial knowledge. Further, these indigenous areas are identified by some tribal consultants to be relational with clans or associations of traditional practitioners of specific kinds of indigenous medicinal and ceremonial practices. Some tribal consultants identified these clans as existing in the pre-contact period and identified some clans as also existing in the present day. Other tribal consultants do not recognize present-day geographical divisions to be related to clans of traditional practitioners. However, they do state that Chumash, Tataviam, and Gabrielino/Tongva territories were and are occupied by socially distinct, yet interrelated, groups which have been characterized by anthropologists. Ethnographic evidence suggests that the social and political organization of the pre-contact Channel Islands were primarily at the village level, with a hereditary chief, in addition to many other specialists who wielded power.

The unassociated funerary objects described in this notice are consistent with those of groups ancestral to the present-day Chumash, Tataviam, and Gabrielino/Tongva people. The material cultures of earlier groups living in the geographical areas mentioned in this notice are characterized by archeologists as having passed through stages over the past 10,000 years. Many local archeologists assert that the changes in the material culture reflect evolving ecological adaptations and related changes in social organization of the same populations and do not represent population displacements or movements. The same range of artifact types and materials were used from the early pre-contact period until historic times. Tribal consultants explicitly state that population mixing, which did occur on a small scale, would not alter the continuity of the shared group identities of people associated with specific locales. Based on this evidence, continuity through time can be traced for all sites listed in this notice with present-day Chumash people, specifically Santa Ynez Band of Chumash Mission Indians of the Santa Ynez Reservation, California.

Determinations Made by the California Department of Transportation

Officials of the California Department of Transportation have determined that:

• Pursuant to 25 U.S.C. 3001(3)(B), the 4,784 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Santa Ynez Band of Chumash Mission Indians of the Santa Ynez Reservation, California.

Additional Requestors and Disposition

Lineal descendants or representatives of any Indian tribe or Native Hawaiian organization not identified in this notice that wish to claim these cultural items should submit a written request with information in support of the claim to Tina Biorn, California Department of Transportation, P.O. Box 942874 MS 27, Sacramento, CA 94271-0001, telephone 916-653-0013, email tina.biorn@dot.ca.gov, by February 26, 2016. After that date, if no additional claimants have come forward, transfer of control of the unassociated funerary objects to Santa Ynez Band of Chumash Mission Indians of the Santa Ynez Reservation, California, may proceed.

The California Department of Transportation is responsible for notifying the Santa Ynez Band of Chumash Mission Indians of the Santa Ynez Reservation, California, that this notice has been published.

Dated: December 21, 2015.
Melanie O'Brien,
Manager, National NAGPRA Program.

[FR Doc. 2016-01605 Filed 1-26-16; 8:45 am]

BILLING CODE 4312-50-P